DEPARTMENT OF COMMERCE

National Oceanic and Atmospheric Administration

Evaluation of State Coastal Management Programs and National Estuarine Research Reserves

AGENCY: National Oceanic and Atmospheric Administration (NOAA), Office of Ocean and Coastal Resource Management, National Ocean Service, Commerce.

ACTION: Notice of Intent to Evaluate.

SUMMARY: The NOAA Office of Ocean and Coastal Resource Management (OCRM) announces its intent to evaluate the performance of the North Carolina and Old Woman Creek (Ohio) National Estuarine Research Reserves.

The National Estuarine Research Reserve evaluations will be conducted pursuant to sections 312 and 315 of the CZMA and regulations at 15 CFR Part 921, Subpart E and Part 923, Subpart L. Evaluation of National Estuarine Research Reserves requires findings concerning the extent to which a state has met the national objectives, adhered to its Reserve final management plan approved by the Secretary of Commerce, and adhered to the terms of financial assistance awards funded under the CZMA.

Each evaluation will include a site visit, consideration of public comments, and consultations with interested Federal, state, and local agencies and members of the public. A public meeting will be held as part of the site visit. When the evaluation is completed, OCRM will place a notice in the Federal Register announcing the availability of the Final Evaluation Findings. Notice is hereby given of the dates of the site visits for the listed evaluations, and the dates, local times, and locations of the public meetings during the site visits.

Dates and Times: The Old Woman Creek (Ohio) National Estuarine Research Reserve evaluation site visit will be held October 6-9, 2009. One public meeting will be held during the week. The public meeting will be held on Wednesday, October 7, 2009, at 6 p.m. at the Old Woman Creek National Estuarine Research Reserve, Visitor Center, 2514 Cleveland Road East, Huron, Ohio.

The North Carolina National Estuarine Research Reserve evaluation site visit will be held December 7-11, 2009. Two public meetings will be held during the week. The first public meeting will be held on Tuesday, December 8, 2009, at 7 p.m., at the University of North Carolina-Wilmington, Center for Marine Science Auditorium, 5600 Marvin K. Moss Lane, Wilmington, North Carolina. The second public meeting will be held on Wednesday, December 9, 2009, at 7 p.m., at the Center for Coastal Fisheries and Habitat Research, NOAA/NCNERR Administration Building Auditorium, 101 Pivers Island Road, Beaufort, North Carolina.

ADDRESSES: Copies of states' most recent performance reports, as well as OCRM's evaluation notification and supplemental information request letters to the states, are available upon request from OCRM. Written comments from interested parties regarding these Programs are encouraged and will be accepted until 15 days after the last public meeting held for a Program. Please direct written comments to Kate Barba, Chief, National Policy and Evaluation Division, Office of Ocean and Coastal Resource Management, NOS/NOAA, 1305 East-West Highway, 10th Floor, N/ORM7, Silver Spring, Maryland 20910.

FOR FURTHER INFORMATION CONTACT: Kate Barba, Chief, National Policy and Evaluation Division, Office of Ocean and Coastal Resource Management, NOS/NOAA, 1305 East-West Highway, 10th Floor, N/ORM7, Silver Spring, Maryland 20910, (301) 563-1182.

(Federal Domestic Assistance Catalog No. 11.419 Coastal Zone Management Program Administration.)

Dated: August 13, 2009.
David M. Kennedy,
Director, Office of Ocean and Coastal Resource Management, National Ocean Service, National Oceanic and Atmospheric Administration.

[FR Doc. E9-21128 Filed 9-1-09; 8:45 am]

BILLING CODE 3510-08-P